DEPARTMENT OF HEALTH AND HUMAN SERVICES

Announcement of Anticipated Availability of Funds for Family Planning Services Grants

AGENCY: Department of Health and Human Services, Office of the Secretary.

ACTION: Notice; correction.

SUMMARY: The Office of Population Affairs, Office of Public Health and Science, Department of Health and Human Services, published a notice in the Federal Register July 7, 2004, announcing the anticipated availability of funds for family planning services grants. This notice contained an error. An eligible Population/area was not listed as available for competition in 2005. A document correcting the omission of the Seattle, Washington Population/area as competitive in 2005 was published in the Federal Register August 10, 2004. Later, two additional Populations/areas, Illinois, Chicago area and Arizona, Navajo Nation, became available for competition in 2005. A second correction notice was published in the Federal Register November 22, 2004, which included all Populations/areas available for competition in 2005.

Since that time, it has been recognized that the project period start date indicated in Table I for the Seattle, Washington Population/area is incorrect. This notice corrects the project period start date to 09/30/2005 for the FY 2005 competitive year. However, the first year of the project period beginning 09/30/2005 will be abbreviated. The budget period for the 01-year will end on 06/30/2006. In subsequent years, the annualized budget period will begin on 07/01 of each project period year, and will end on 06/30 of each project period year. The purpose of this change is to modify the project period start and end dates for the Seattle, Washington Population/area in order to enhance project oversight.

FOR FURTHER INFORMATION CONTACT: Susan B. Moskosky, 301-594-4008.

Correction

In the Federal Register of July 7, 2004, FR Doc. 03-15514, on page 41,115, correct Table I to read:

Table I
States/populations/areas to be served | Approximate funding available | Application due date | Approx. grant funding date
Region I:
Massachusetts | $5,217,000 | 09-01-04 | 01-01-05
Region II:
New York State | 9,635,000 | 03-01-05 | 07-01-05
Puerto Rico | 2,389,000 | 03-01-05 | 07-01-05
Region III:
Washington, DC | 1,053,000 | 09-01-04 | 01-01-05
Region IV:
Kentucky | 5,203,000 | 03-01-05 | 07-01-05
South Carolina | 5,569,000 | 03-01-05 | 07-01-05
Tennessee | 5,914,000 | 03-01-05 | 07-01-05
Region V:
Illinois, Chicago area | 200,225 | 06-01-05 | 09-30-05
Region VI:
Arkansas | 3,241,000 | 11-01-04 | 03-01-05
New Mexico | 2,228,000 | 09-01-04 | 01-01-05
Region VII:
Kansas | 2,332,000 | 03-01-05 | 07-01-05
Region VIII:
No areas competitive in FY 2005 |  |  |
Region IX:
Gila River Indian Community | 251,000 | 03-01-05 | 07-01-05
Government of Guam | 452,000 | 03-01-05 | 07-01-05
Republic of Palau | 99,000 | 03-01-05 | 07-01-05
Federated States of Micronesia | 411,000 | 03-01-05 | 07-01-05
Arizona, Navajo Nation | 640,000 | 03-01-05 | 07-01-05
Region X:
Idaho | 1,318,000 | 03-01-05 | 07-01-05
Oregon, Multnomah County | 330,000 | 03-01-05 | 07-01-05
Washington, Seattle* | 158,450 | 06-01-05 | 09-30-05
* The first year budget period of this grant will be abbreviated. The budget period start and end dates in the first year will be 09/30/05-06/30/06. In subsequent years of the approved project period, the budget periods will be 07/01 through 06/30 of each year. Applications should reflect the abbreviated budget period of the first year of the project period.

Dated: February 4, 2005.
Alma L. Golden,
Deputy Assistant Secretary for Population Affairs.

[FR Doc. 05-3059 Filed 2-16-05; 8:45 am]

BILLING CODE 4150-34-P